DEPARTMENT OF JUSTICE

Federal Bureau of Investigation

[OMB Number 1110-0002]

Agency Information Collection Activities; Proposed eCollection eComments Requested; Extension of a Currently-Approved Collection; Supplementary Homicide Report (SHR)

AGENCY: Federal Bureau of Investigation (FBI), Department of Justice (DOJ).

ACTION: 30-Day notice and request for comments.

SUMMARY: The DOJ, FBI, Criminal Justice Information Services (CJIS) Division, will be submitting the following information collection request to the Office of Management and Budget for review and approval in accordance with the Paperwork Reduction Act (PRA) of 1995.

DATES: Comments are encouraged and will be accepted for 30 days until December 4, 2020.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

—Evaluate whether the proposed collection of information is necessary for the proper performance of the functions of the FBI, including whether the information will have practical utility;

—Evaluate the accuracy of the agency's estimate of the burden of the proposed collection of information, including the validity of the methodology and assumptions used;

—Evaluate whether, and if so, how the quality, utility, and clarity of the information to be collected can be enhanced; and

—Minimize the burden of the collection of information on those who are to respond, including through the use of appropriate automated, electronic, mechanical, or other technological collection techniques or other forms of information technology (e.g., permitting electronic submission of responses).

Overview of This Information Collection

1. Type of Information Collection: Extension of a currently-approved collection.

2. The Title of the Form/Collection: Supplementary Homicide Report.

3. The agency form number, if any, and the applicable component of the Department sponsoring the collection: The form number is 1-704. The applicable component within the DOJ is the CJIS Division of the FBI.

4. Affected public who will be asked or required to respond, as well as a brief abstract: Primary: Federal, state, local, and tribal law enforcement agencies (LEAs). Abstract: Under Title 28, United States Code, Section 534(a) and (c), this collection requests homicide data from respondents in order for the FBI Uniform Crime Reporting (UCR) Program to serve as the national clearinghouse for the collection and dissemination of homicide and other crime-related data and to publish these statistics in Crime in the United States. The two-sided SHR form collects details about all murders and nonnegligent manslaughters (including justifiable homicides) and negligent manslaughters. The details include the reporting agency; month and year; situation; age, sex, race, and ethnicity of the victim(s) and the offender(s); weapon type used; relationship of the victim(s) to the offender(s); and circumstance(s) surrounding the incident (e.g., argument, robbery, gang-related), if known.

5. An estimate of the total number of respondents and the amount of time estimated for an average respondent to respond: The estimated number of LEAs submitting SHR data to the FBI UCR Program monthly via the Summary Reporting System is 9,376. Annually, those LEAs submit a total of 112,512 responses (9,376 LEAs × 12 months = 112,512 responses annually). The estimated time it takes for an average respondent to respond is nine minutes. Therefore, the estimated annual public burden associated with the SHR data collection is 16,877 hours [(112,512 annual responses × 9 minutes per response)/60 minutes per hour = 16.876.8 total annual hours].

If additional information is required, contact: Melody Braswell, Department Clearance Officer, United States Department of Justice, Justice Management Division, Policy and Planning Staff, Two Constitution Square, 145 N Street NE, 3E.405A, Washington, DC 20530.

Dated: September 29, 2020.
Melody Braswell,
Department Clearance Officer for the PRA, U.S. Department of Justice.

[FR Doc. 2020-21910 Filed 10-2-20; 8:45 am]

BILLING CODE 4410-02-P